DEPARTMENT OF THE INTERIOR

National Park Service

[NPS-WASO-NRNHL-0311-6924; 2280-665]

Landmarks Committee of the National Park System Advisory Board Meeting

AGENCY: National Park Service, Interior.

ACTION: Notice of Meeting.

SUMMARY: Notice is hereby given in accordance with the Federal Advisory Committee Act [5 U.S.C. Appendix (1988)], that a meeting of the Landmarks Committee of the National Park System Advisory Board will be held beginning at 1 p.m. on May 24, 2011, at the following location. The meeting will continue beginning at 9 a.m. on May 25 and 26, 2011.

DATES: May 24, 2011, at 1 p.m.; May 25-26, 2011, at 9 a.m.

Location: The 2nd Floor Board Room of the National Trust for Historic Preservation, 1785 Massachusetts Avenue, NW., Washington, DC 20036.

FOR FURTHER INFORMATION CONTACT: Patricia Henry, National Historic Landmarks Program, National Park Service; 1849 C Street, NW. (2280); Washington, DC 20240; Telephone (202) 354-2216; E-mail: Patty_Henry@nps.gov.

SUPPLEMENTARY INFORMATION: The purpose of the meeting of the Landmarks Committee of the National Park System Advisory Board is to evaluate nominations of historic properties in order to advise the National Park System Advisory Board of the qualifications of each property being proposed for National Historic Landmark (NHL) designation, and to make recommendations regarding the possible designation of those properties as National Historic Landmarks to the National Park System Advisory Board at its subsequent meeting at a place and time to be determined. The Committee also makes recommendations to the National Park System Advisory Board regarding amendments to existing designations and proposals for withdrawal of designation. The members of the Landmarks Committee are:

Mr. Ronald James, Chair,

Dr. James M. Allan,

Dr. Cary Carson,

Dr. Darlene Clark Hine,

Mr. Luis Hoyos, AIA,

Dr. Barbara J. Mills,

Dr. William J. Murtagh,

Dr. Franklin Odo,

Dr. William D. Seale,

Dr. Michael E. Stevens.

The meeting will be open to the public. Pursuant to 36 CFR part 65, any member of the public may file, for consideration by the Landmarks Committee of the National Park System Advisory Board, written comments concerning the National Historic Landmarks nominations, amendments to existing designations, or proposals for withdrawal of designation.

Comments should be submitted to J. Paul Loether, Chief, National Register of Historic Places and National Historic Landmarks Program, National Park Service; 1849 C Street, NW. (2280); Washington, DC 20240; E-mail: Paul_Loether@nps.gov. Before including your address, phone number, e-mail address, or other personal identifying information in your comment, you should be aware that your entire comment—including your personal identifying information—may be made publicly available at any time. While you can ask us in your comment to withhold your personal identifying information from public review, we cannot guarantee that we will be able to do so.

The National Park System Advisory Board and its Landmarks Committee may consider the following nominations:

Nominations

Arizona

• FORT APACHE AND THEODORE ROOSEVELT SCHOOL, Fort Apache, AZ

• 1956 GRAND CANYON UNITED-TWA AVIATION ACCIDENT SITE, Grand Canyon NP, AZ

California

• CARRIZO PLAIN ARCHEOLOGICAL DISTRICT, California Valley, CA

Florida

• FLORIDA SOUTHERN COLLEGE HISTORIC DISTRICT, Lakeland, FL

Indiana

• PINŠIWA HOUSE (CHIEF JEAN-BAPTISTE DE RICHARDVILLE HOUSE), Fort Wayne, IN

Kentucky

• CAMP NELSON ARCHEOLOGICAL SITE, Jessamine County, KY

Michigan

• MEADOW BROOK HALL, Rochester, MI

Montana

• DEER MEDICINE ROCKS, Lame Deer, MT

New York

• GARDNER EARL MEMORIAL CHAPEL AND CREMATORIUM, Troy, NY

• MONTAUK POINT LIGHTHOUSE, Montauk, NY

• THE TOWN HALL, New York, NY

• USS SLATER, Albany, NY

• WEST POINT FOUNDRY ARCHEOLOGICAL SITE, Cold Spring, NY

Ohio

• WRIGHT FIELD HISTORIC DISTRICT, Wright-Patterson AFB, OH

Pennsylvania

• BRADDOCK CARNEGIE LIBRARY, Braddock, PA

• HISTORIC MORAVIAN BETHLEHEM HISTORIC DISTRICT, Bethlehem, PA

Rhode Island

• GENERAL JAMES MITCHELL VARNUM HOUSE, East Greenwich, RI

South Dakota

• STRATOBOWL, Rapid City, SD

Virginia

• EYRE HALL, Northampton County, VA

• SAINT PETER'S PARISH CHURCH, New Kent County, VA

Proposed Amendments to Existing Designations

• FORT BENTON HISTORIC DISTRICT, Fort Benton, MT (updated documentation and boundary clarification)

• NANTUCKET HISTORIC DISTRICT, Nantucket, MA (updated documentation)

Dated: March 8, 2011.
J. Paul Loether,
Chief, National Register of Historic Places and National Historic Landmarks Program; National Park Service, Washington, DC.

[FR Doc. 2011-6495 Filed 3-18-11; 8:45 am]

BILLING CODE 4312-51-P